DEPARTMENT OF TRANSPORTATION

Office of the Secretary

Notice of Applications for Certificates of Public Convenience and Necessity and Foreign Air Carrier Permits Filed Under Subpart B (Formerly Subpart Q) During the Week Ending April 25, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0148.

Date Filed: April 21, 2008.

Due Date for Answers, Conforming Applications, or Motion to Modify Scope: May 12, 2008.

Description: Application of Thomas Cook Airlines Limited (Thomas Cook) requesting an amended foreign air carrier permit and an exemption authority, so that Thomas Cook can engage in: (a) Foreign scheduled and charter air transportation of persons and property from any point or points behind any Member State of the European Union via any point or points in any Member State and via intermediate points to any point or points in the United States and beyond; (b) foreign scheduled and charter air transportation of persons and property between any point or points in the United States and any point or points in any member of the European Common Aviation Area; (c) foreign scheduled and charter cargo air transportation between any point or points in the United States and any other point or points; (d) other charters pursuant to the prior approval; and (e) transportation authorized by any additional route rights made available to European Community carriers in the future.

Docket Number: DOT-OST-1997-3006.

Date Filed: April 22, 2008.

Due Date for Answers, Conforming Applications, or Motion to Modify Scope: May 13, 2008.

Description: Application of Finnair Oyj (“Finnair”) requesting renewal of its exemption and to amend it to encompass all of the new rights made available to European air carriers and a foreign air carrier permit to enable it to provide: (a) Foreign scheduled and nonscheduled air transportation of persons, property and mail from any point or points behind any Member State of the European Union, via any point or points in any Member State and via intermediate points, to any point or points in the United States and beyond; (b) foreign scheduled and nonscheduled air transportation of persons, property and mail between any point or points in the United States and any point or points in any member of the European Common Aviation Area; (c) foreign scheduled and nonscheduled cargo air transportation between any point or points in the United States and any other point or points; (d) other charters pursuant to the prior approval; and (e) transportation authorized by any additional route rights made available to European Community carriers in the future.

Docket Number: DOT-OST-2008-0149.

Date Filed: April 23, 2008.

Due Date for Answers, Conforming Applications, or Motion to Modify Scope: May 14, 2008.

Description: Application of Corporate Jets XXI, S.A. (“CorporatejetsXXI”) requesting a foreign air carrier permit and exemption to engage in: (a) Foreign charter air transportation of persons, property and mail from any point or points behind any Member State of the European Union, via any point or points in any EU Member State and via intermediate points, to any point or points in the United States and beyond; (b) foreign charter air transportation of persons, property and mail between any point or points in the United States and any point or points in any member of the European Common Aviation Area; (c) foreign charter air transportation of cargo between any point or points in the United States and any other point or points; (d) other charters pursuant to prior approval; and (e) charter transportation authorized by any additional route rights made available to European Community carriers in the future, to the extent permitted by CorporatejetsXXI's homeland license on file with the Department.

Docket Number: DOT-OST-2008-0150.

Date Filed: April 25, 2008.

Due Date for Answers, Conforming Applications, or Motion to Modify Scope: May 16, 2008.

Description: Application of JetNetherlands B.V. requesting a foreign air carrier permit to the full extent authorized by the Air Transport Agreement between the United States and the European Community and the Member States of the European Community to enable it to engage in: (i) Foreign charter air transportation of persons and property from any point or points behind any Member State of the European Union via any point or points in any Member State and via intermediate points to any point or points in the United States and beyond; (ii) foreign charter air transportation of persons and property between any point or points in the United States and any point or points in any member of the European Common Aviation Area; (iii) other charters pursuant to the prior approval requirements; and (iv) transportation authorized by any additional route rights made available to European Community carriers in the future.

Renee V. Wright,
Program Manager, Docket Operations, Federal Register Liaison.

[FR Doc. E8-13985 Filed 6-19-08; 8:45 am]

BILLING CODE 4910-9X-P